DEPARTMENT OF ENERGY

[FE Docket No. 03-19-NG; 03-20-NG; 96-59-NG; 03-21-NG; 03-23-NG; 03-22-NG; and 03-24-NG]

Office of Fossil Energy; Cinergy Marketing & Trading, L.P., Cascade Natural Gas Corporation, Chevron U.S.A. Inc., Dynegy Power Marketing, Inc., Pan-Alberta Gas (U.S.) Inc., Sithe/Independence Power Partners, L.P., Constellation Power Source, Inc.; Orders Granting and Vacating Authority To Import and Export Natural Gas

AGENCY: Office of Fossil Energy, DOE.

ACTION: Notice of Orders.

SUMMARY: The Office of Fossil Energy (FE) of the Department of Energy gives notice that during May 2003, it issued Orders granting and vacating authority to import and export natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on June 10, 2003.
Clifford P. Tomaszewski,
Manager, Natural Gas Regulation, Office of Natural Gas & Petroleum, Import & Export Activities, Office of Fossil Energy.

Appendix—Orders Granting and Vacating—Import/Export Authorizations
[DOE/FE Authority]
Order No. | Date Issued | Importer/Exporter FE Docket No. | Import volume | Export volume | Comments
1866 | 5-2-03 | Cinergy Marketing & Trading, L.P.; 03-19-NG | 730 Bcf |  | Import and export up to a combined total of natural gas from and to Canada, beginning on June 1, 2003, and extending through May 31, 2005.
1867 | 5-13-03 | Cascade Natural Gas Corporation; 03-20-NG | 200 Bcf |  | Import natural gas from Canada, beginning on July 1, 2003, and extending through June 30, 2005.
1194-A | 5-15-03 | Chevron U.S.A. Inc.; 96-59-NG |  |  | Vacate long-term import authority.
1868 | 5-16-03 | Dynegy Power Marketing, Inc; ;03-21-NG | 600 Bcf | 330 Bcf | Import up to a combined total of natural gas from Canada and Mexico, and to export up to a combined total of natural gas to Canada and Mexico, beginning on June 25, 2003, and extending through June 24, 2005.
1869 | 5-21-03 | Pan-Alberta Gas (U.S.) Inc.; 03-23-NG | 730 Bcf |  | Import natural gas from Canada, beginning on July 4, 2003, and extending through July 3, 2005.
1870 | 5-27-03 | Sithe/Independence Power Partners, L.P.; 03-22-NG | 60 Bcf |  | Import natural gas from Canada, beginning on July 1, 2003, and extending through June 30, 2005.
1871 | 5-29-03 | Constellation Power Source, Inc.; 03-24-NG | 400 Bcf |  | Import and export up to a combined total of natural gas from and to Canada, beginning on May 1, 2003, and extending through April 30, 2005.

[FR Doc. 03-15628 Filed 6-19-03; 8:45 am]

BILLING CODE 6450-01-P